FEDERAL COMMUNICATIONS COMMISSION

[OIA Docket No. 24-30; FR ID 327092]

World Radiocommunication Conference Advisory Committee Schedules Its Fourth Meeting on February 19, 2026

AGENCY: Federal Communications Commission.

ACTION: Notice.

SUMMARY: This notice advises interested persons that the fourth meeting of the World Radiocommunication Conference Advisory Committee (WRC Advisory Committee) will be held on February 19, 2026, at the Federal Communications Commission (FCC). This fourth meeting of the WRC Advisory Committee will consider status reports and recommendations from its Informal Working Groups (IWG) concerning preparation for the 2027 World Radiocommunication Conference (WRC-27). At the fourth meeting, the WRC Advisory Committee will continue its work to finalize the Recommendations for WRC-27 Agenda Items that do not yet have a WRC Advisory Committee Recommendation. This meeting is open to the public. The meeting will be broadcast live with open captioning over the internet from the FCC Live web page at www.fcc.gov/live. There will be audience participation available; send live questions to livequestions@fcc.gov during this meeting. The Commission's WRC-27 website (www.fcc.gov/wrc-27) contains the latest updated information and agendas on all scheduled meetings and Advisory Committee matters. Comments may be presented at the Advisory Committee meeting or in advance of the meeting by email to: WRC-27@fcc.gov.

DATES: Thursday, February 19, 2026, at 11:00 a.m.

ADDRESSES: Federal Communications Commission, 45 L Street NE, Room 1.200, Washington, DC 20002.

FOR FURTHER INFORMATION CONTACT: Gregory Baker, Designated Federal Official, World Radiocommunication Conference Advisory Committee, Office of International Affairs, Global Strategy and Negotiation Division, (202) 919-0758 or WRC-27@fcc.gov.

SUPPLEMENTARY INFORMATION: The FCC established the Advisory Committee to provide advice, technical support and recommendations relating to the preparation of United States proposals and positions for the 2027 World Radiocommunication Conference (WRC-27).

In accordance with the Federal Advisory Committee Act, Public Law 92-463, as amended, this notice advises interested persons of the fourth meeting of the Advisory Committee. The Commission's WRC-27 website (www.fcc.gov/wrc-27) contains the latest information on the IWG and WAC meeting agendas and audience participation information, all scheduled meeting dates and updates, and WRC-27 Advisory Committee matters. The fourth Advisory Committee meeting will be broadcast live with open captioning over the internet from the FCC Live web page at www.fcc.gov/live. There will be audience participation available; send live questions to livequestions@fcc.gov only during this meeting. Reasonable accommodations for people with disabilities are available upon request. Include a description of the accommodation you will need and tell us how to contact you if we need more information. Make your request as early as possible. Last minute requests will be accepted, but may be impossible to fill. Send an email to: FCC504@fcc.gov or call the Consumer and Governmental Affairs Bureau at 202-418-0530 (voice).

The proposed agenda for the fourth WAC meeting is as follows:

Agenda

Fourth Meeting of the World Radiocommunication Conference Advisory Committee

Federal Communications Commission

Thursday, February 19, 2026; 11:00 a.m.

1. Opening Remarks

2. Approval of Agenda

3. WRC-27 Advisory Committee Structure

4. Update by NTIA on the RCS

5. Approval of the Minutes of the Third Meeting

6. IWG Reports and Consideration Documents

7. Future Meetings

8. Other Business

Federal Communications Commission.
Sarah Van Valzah,
Assistant Chief, Office of International Affairs.

[FR Doc. 2026-01350 Filed 1-23-26; 8:45 am]

BILLING CODE 6712-01-P